DEPARTMENT OF TRANSPORTATION

Federal Aviation Administration

Tenth Meeting: RTCA Special Committee 223: Airport Surface Wireless Communications

AGENCY: Federal Aviation Administration (FAA), Department of Transportation (DOT).

ACTION: Notice of RTCA Special Committee 223: Airport Surface Wireless Communications meeting.

SUMMARY: The FAA is issuing this notice to advise the public of a meeting of RTCA Special Committee 223: Airport Surface Wireless Communications.

DATES: The meeting will be held August 9-10, 2011 from 9 a.m. to 5 p.m.

ADDRESSES: The meeting will be held at RTCA, Inc., 1150 18th Street NW., Suite 910, NW., Washington, DC 20036.

FOR FURTHER INFORMATION CONTACT: RTCA Secretariat, 1150 18th Street NW., Suite 910, Washington, DC, 20036; telephone (202) 833-9339; fax (202) 833-9434; Web site http://www.rtca.org.

SUPPLEMENTARY INFORMATION: Pursuant to section 10(a)(2) of the Federal Advisory Committee Act (Pub. L. 92-463, 5 U.S.C., and Appendix 2), notice is hereby given for a RTCA Special Committee 223: Airport Surface Wireless Communications meeting.

Agenda

Tuesday, August 9, 2011

Tuesday Morning Plenary

• Welcome, Introductions, Administrative Remarks by Special Committee Leadership

■ Designated Federal Officer (DFO): Mr. Brent Phillips

■ Co-Chair: Mr. Aloke Roy, Honeywell International

■ Co-Chair: Mr. Ward Hall, ITT Corporation

• Agenda Overview

• Review/Approve Prior Plenary Meeting Summary—RTCA Paper No. 051-11/SC223-020, and Action Item Status

• General Presentation of Interest

■ Antenna isolation and aircraft installation issues—Honeywell

■ WiMAX Forum coordination status—WiMAX Forum

• Tuesday Afternoon—MOPS WG Breakout Session

• Review Status of WMF Agreement

• Discussion of Chapters 5,6,8—EUROCAE

• Chap 5—Service Specific CS

• Draft Chap 8—Physical Layer

• Discussion of Security Sub-layer—Honeywell MOPS Outline

Wednesday, August 10, 2011

• Wednesday Morning—MOPS WG Breakout Session

• Review Draft of Environmental (DO-160G)—Rockwell Collins

• Review Draft PICS—Rockwell Collins

• Review Draft CSRL Appendix—Rockwell Collins

• Status on ARINC XXX—Continental Airlines

Wednesday Afternoon—MOPS WG Breakout Session

• Establish Agenda, Date and Place for the next plenary meetings of number 11 and 12

• Review of Meeting summary report

• Adjourn

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 23, 2011.
Kathy Hitt,
RTCA Advisory Committee.

[FR Doc. 2011-16591 Filed 6-30-11; 8:45 am]

BILLING CODE 4910-13-P